DEPARTMENT OF LABOR

Employment and Training Administration

[TA-W-60,876; TA-W-60,876B]

Armstrong Wood Products, Inc., Armstrong Hardwood Flooring Company, Parquet Flooring Department, Oneida, Tennessee; Armstrong Wood Products, Inc., Armstrong Hardwood Flooring Company, Pattern Plus Flooring Department, Oneida, TN; Notice of Revised Determination on Reconsideration

On May 2, 2007, the Department of Labor (Department) issued an Affirmative Determination Regarding Application for Reconsideration of the Trade Adjustment Assistance (TAA) and Alternative Trade Adjustment Assistance (ATAA) petition filed on behalf of workers and former workers of Armstrong Wood Products, Inc., Armstrong Hardwood Flooring Company, Pattern Plus Flooring Department, Oneida, Tennessee (TA-W-60,876B). The Notice of affirmative determination was published in the Federal Register on May 9, 2007 (72 FR 26425). Workers covered by TA-W-60,876B produce Pattern Plus flooring, a variety of hardwood flooring.

The request for reconsideration alleged that Armstrong Wood Products, Inc., Armstrong Hardwood Flooring Company, Oneida, Tennessee (the subject firm) increased its imports of hardwood flooring.

On March 28, 2007, the Department issued a TAA/ATAA certification for workers of Armstrong Wood Products, Inc., Armstrong Hardwood Flooring Company, Solid Strip Flooring Department, Oneida, Tennessee (TA-W-60,876C). Solid Strip is a type of hardwood flooring produced by the subject firm.

During the reconsideration investigation, the Department confirmed that the subject firm increased imports of hardwood flooring following a shift of production abroad. The Department also received new information on the subject firm's organization and operation, as well as information on the various types of hardwood flooring produced by the subject firm.

The new information confirmed that workers at the subject firm are separately identifiable by product line and revealed that the three types of hardwood flooring produced by the subject firm are essentially the same. Each type of flooring is made from hardwood (parquet comprises of small pieces of hardwood, solid strip comprises of long strips of solid hardwood, and Pattern Plus comprises of large sheets of engineered hardwood) and each type serves the same function—covering the floor.

The Department determines that the types of hardwood flooring produced at the subject firm are like and directly competitive with each other. As such, the Department conducted a reconsideration investigation of TA-W-60,876 (parquet flooring) as well as TA-W-60,876B (Pattern Plus).

TA-W-60,876

The number of workers producing parquet flooring at the subject firm declined in 2006 from 2005 numbers, and sales and production levels of parquet flooring declined in 2006 from 2005 levels. The subject firm increased imports of articles like and directly competitive with parquet flooring produced by the subject workers.

TA-W-60,876B

The number of workers producing Pattern Plus flooring at the subject firm declined in 2006 from 2005 numbers, and sales and production levels of Pattern Plus flooring declined in 2006 from 2005 levels. The subject firm increased imports of articles like and directly competitive with Pattern Plus flooring produced by the subject workers.

In accordance with Section 246 the Trade Act of 1974 (26 U.S.C. 2813), as amended, the Department herein presents the results of its investigation regarding certification of eligibility to apply for ATAA. The Department has determined in this case that the group eligibility requirements of Section 246 have been met by the worker groups covered by TA-W-60,876 and TA-W-60,876B.

In both TA-W-60,876 and TA-W-60,876B, a significant number of workers at the firm are age 50 or over and possess skills that are not easily transferable. Further, in both cases, competitive conditions within the industry are adverse.

Conclusion

After careful review of the information obtained in the reconsideration investigation, I determine that the subject firm increased imports of articles like or directly competitive with hardwood flooring produced by the subject worker groups following a shift of production abroad. In accordance with the provisions of the Trade Act of 1974, as amended, I make the following certification:

All workers of Armstrong Wood Products, Inc., Armstrong Hardwood Flooring Company, Parquet Flooring Department, Oneida, Tennessee (TA-W-60,876), Armstrong Wood Products, Inc., and Armstrong Hardwood Flooring Company, Pattern Plus Flooring Department, Oneida, Tennessee, (TA-W-60,876B), who became totally or partially separated from employment on or after January 31, 2006 through two years from the date of this certification, are eligible to apply for adjustment assistance under Section 223 of the Trade Act of 1974, and are eligible to apply for alternative trade adjustment assistance under Section 246 of the Trade Act of 1974.

Signed at Washington, DC this 7th day of June 2007.
Elliott S. Kushner,
Certifying Officer, Division of Trade Adjustment Assistance.

[FR Doc. E7-11479 Filed 6-13-07; 8:45 am]

BILLING CODE 4510-FN-P